DEPARTMENT OF ENERGY

Federal Energy Regulatory Commission

Combined Notice of Filings #1

March 23, 2006.

Take notice that the Commission received the following electric rate filings.

Docket Numbers: ER02-2559-004; ER01-1071-005; ER02-669-005; ER02-2018-005; ER01-2074-005; ER98-2494-009; ER02-1903-004; ER03-179-005; ER02-1838-005; ER02-2120-003; ER03-155-004; ER02-2166-004.

Applicants: Backbone Mountain Windpower LLC; Badger Windpower, LLC, Bayswater Peaking Facility, LLC; Blythe Energy, LLC; Calhoun Power Company I, LLC; ESI Vansycle Partners, L.P.; FPL Energy Marcus Hook, L.P.; FPL Energy New Mexico Wind, LLC; FPL Energy Seabrook, LLC; FPLE Rhode Island State Energy, L.P.; High Winds, LLC; Pennsylvania Windfarms, Inc.

Description: FPL Energy Affiliates amends their June 17, 2005 compliance filing pursuant to FERC's May 25, 2005 Order.

Filed Date: March 17, 2006.

Accession Number: 20060321-0044.

Comment Date: 5 p.m. Eastern Time on Tuesday, March 28, 2006.

Docket Numbers: ER03-746-000; EL00-95-081; EL00-98-069.

Applicants: California Independent System Operator Corporation.

Description: California Independent System Operator Corp. submits its Twenty-Sixth Status Report on Re-Run Activity re San Diego Gas & Electric Co.

Filed Date: March 16, 2006.

Accession Number: 20060320-0064.

Comment Date: 5 p.m. Eastern Time on Thursday, April 6, 2006.

Docket Numbers: ER06-564-001.

Applicants: American Electric Power Service Corp.

Description: American Electric Power Service Corp, submits changes to the Original Sheet 16 of the Agreement filed on January 27, 2006 with the Village of Shiloh, OH.

Filed Date: March 17, 2006.

Accession Number: 20060321-0031.

Comment Date: 5 p.m. Eastern Time on Friday, April 7, 2006.

Docket Numbers: ER06-587-001.

Applicants: Interstate Power and Light Company.

Description: Interstate Power and Light Co. submits Substitute Sheets Nos. 1 through 17 of its RES-5 tariff.

Filed Date: March 17, 2006.

Accession Number: 20060321-0032.

Comment Date: 5 p.m. Eastern Time on Friday, April 7, 2006.

Docket Numbers: ER06-614-001.

Applicants: Western Electricity Coordinating Council.

Description: Western Electricity Coordinating Council submits its FERC Electric Rate Schedule No. 1, in compliance with FERC's March 6, 2006 Order.

Filed Date: March 15, 2006.

Accession Number: 20060321-0001.

Comment Date: 5 p.m. Eastern Time on Wednesday, April 5, 2006.

Docket Numbers: ER06-732-000.

Applicants: MidAmerican Energy Company.

Description: MidAmerican Energy Co. submits a proposed Joint Investment and Ownership Agreement for Quad Cities West Flowgate Upgrades.

Filed Date: March 15, 2006.

Accession Number: 20060317-0270.

Comment Date: 5 p.m. Eastern Time on Wednesday, April 5, 2006.

Docket Numbers: ER06-734-000.

Applicants: Midwest Independent Transmission System Operator, Inc.

Description: Midwest Independent Transmission System Operator, Inc. submits an unexecuted Large Generator Interconnection Agreement among FPL Energy Green Lake Wind, LLC and American Transmission Co., LLC.

Filed Date: March 17, 2006.

Accession Number: 20060321-0038.

Comment Date: 5 p.m. Eastern Time on Friday, April 7, 2006.

Docket Numbers: ER06-735-000.

Applicants: Auburndale Power Partners, L.P.

Description: Auburndale Power Partners L.P. petitions the Commission for order accepting market-based rate schedule and granting waivers and blanket approvals.

Filed Date: March 17, 2006.

Accession Number: 20060321-0039.

Comment Date: 5 p.m. Eastern Time on Friday, April 7, 2006.

Docket Numbers: ER06-736-000.

Applicants: Midway Sunset Cogeneration Company.

Description: Petition of Midway Sunset Cogeneration Co. petitions the Commission for order accepting market-based rate schedule and granting waivers and blanket approvals.

Filed Date: March 17, 2006.

Accession Number: 20060321-0040.

Comment Date: 5 p.m. Eastern Time on Friday, April 7, 2006.

Docket Numbers: ER06-737-000.

Applicants: MidAmerican Energy Company.

Description: MidAmerican Energy Co. submits First Rev. Sheet Nos. 1, 3, 11, and 13 and Original Sheet Nos. 33a-33h to First Rev. FERC Rate Schedule 19 which is an Interconection Agreement with Central Iowa Power Coop.

Filed Date: March 17, 2006.

Accession Number: 20060321-0041.

Comment Date: 5 p.m. Eastern Time on Friday, April 7, 2006.

Docket Numbers: ER06-738-000; ER06-739-000.

Applicants: Cogen Technologies Linden Venture, L.P.; East Coast Power Linden holding L.L.C.

Description: Cogen Technologies Linden Venture, L.P. and East Coast Power Linden Holding L.L.C. petition the Commission for order accepting market-based rate schedules and granting waivers and blanket approvals.

Filed Date: March 17, 2006.

Accession Number: 20060321-0042.

Comment Date: 5 p.m. Eastern Time on Friday, April 7, 2006.

Docket Numbers: ER06-741-000; ER06-742-000.

Applicants: KIAC Partners; Nissequogue Cogen Partners.

Description: KIAC Partners and Nissequogue Cogen submit proposed market-based rate schedules.

Filed Date: March 16, 2006.

Accession Number: 20060322-0155.

Comment Date: 5 p.m. Eastern Time on Thursday, April 6, 2006.

Docket Numbers: ER06-743-000.

Applicants: Air Liquide Large Industries US LP.

Description: Air Liquide Large Industries US, LP submits an application to make wholesale sales of energy and capacity and ancillary services at negotiated market based rates.

Filed Date: March 16, 2006.

Accession Number: 20060322-0171.

Comment Date: 5 p.m. Eastern Time on Thursday, April 6, 2006.

Docket Numbers: ER06-744-000.

Applicants: Sabine Cogen, LP.

Description: Sabine Cogen, LP submits application for authorization to make wholesale sales of energy and capacity and ancillary services at negotiated, market-based rates.

Filed Date: March 16, 2006.

Accession Number: 20060322-0170.

Comment Date: 5 p.m. Eastern Time on Thursday, April 6, 2006.

Docket Numbers: ER06-745-000.

Applicants: MASSPOWER.

Description: MASSPOWER submits an application for authorization to make market-based wholesale sales of energy, capacity and ancillary services.

Filed Date: March 16, 2006.

Accession Number: 20060322-0156.

Comment Date: 5 p.m. Eastern Time on Thursday, April 6, 2006.

Docket Numbers: ER06-746-000.

Applicants: Equilon Enterprises LLC.

Description: Equilon Enterprises, LLC dba Shell Oil Products US submits its proposed market-based rate tariff for its qualifying cogeneration facility located at Los Angeles, CA.

Filed Date: March 16, 2006.

Accession Number: 20060322-0151.

Comment Date: 5 p.m. Eastern Time on Thursday, April 6, 2006.

Docket Numbers: ER06-747-000.

Applicants: Equilon Enterprises LLC.

Description: Equilon Enterprises, LLC dba Shell Oil Products US submits its proposed market-based rate tariff for its qualifying cogeneration facility located at Martinez, CA.

Filed Date: March 16, 2006.

Accession Number: 20060322-0152.

Comment Date: 5 p.m. Eastern Time on Thursday, April 6, 2006.

Docket Numbers: ER06-748-000.

Applicants: Shell Chemical LP.

Description: Shell Chemical LP submits its proposed market-based rate tariff for its qualifying cogeneration facility located at Geismar, LA.

Filed Date: March 16, 2006.

Accession Number: 20060322-0158.

Comment Date: 5 p.m. Eastern Time on Thursday, April 6, 2006.

Docket Numbers: ER06-749-000; ER06-750-000; ER05-751-000; ER06-752-000; ER06-753-000; ER06-754-000.

Applicants: Carville Energy LLC; Morgan Energy Center, LLC; Columbia Energy LLC; Pine Bluff Energy, LLC; CPN Pryor Funding Corporation; Auburndale Power Partners, L.P.

Description: Carville Energy LLC, et al. submits proposed market based rate schedules.

Filed Date: March 16, 2006.

Accession Number: 20060322-0153.

Comment Date: 5 p.m. Eastern Time on Thursday, April 6, 2006.

Docket Numbers: ER06-755-000; ER06-756-000.

Applicants: Calpine Gilroy Cogen, L.P.; Los Medanos Energy Center LLC.

Description: Calpine Gilroy Cogen, LP & Los Medanos Energy Center, LLC submit proposed market-based rate schedules for qualifying facilities.

Filed Date: March 16, 2006.

Accession Number: 20060322-0154.

Comment Date: 5 p.m. Eastern Time on Thursday, April 6, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E6-4596 Filed 3-29-06; 8:45 am]

BILLING CODE 6717-01-P